DEPARTMENT OF ENERGY

Federal Energy Regulatory Commission

Combined Notice of Filings # 1

July 28, 2009.

Take notice that the Commission received the following electric corporate filings:

Docket Numbers: EC09-96-000.

Applicants: Hartwell Energy Limited Partnership, Oglethorpe Power Corporation.

Description: Joint application of Hartwell Energy Limited Partnership & Oglethorpe Power Corp for approval of the Disposition of Jurisdictional Facilities under section 203 of the Federal Power Act.

Filed Date: 07/24/2009.

Accession Number: 20090724-4008.

Comment Date: 5 p.m. Eastern Time on Friday, August 14, 2009.

Docket Numbers: EC09-97-000.

Applicants: MidAmerican Energy Company.

Description: MidAmerican Energy Company submits application for approval of the acquisition by MidAmerican of an ownership interest in the Hills-Parnell 161 kV transmission line and related assets owned by Resale Power Group of Iowa.

Filed Date: 07/27/2009.

Accession Number: 20090727-0035.

Comment Date: 5 p.m. Eastern Time on Monday, August 17, 2009.

Take notice that the Commission received the following exempt wholesale generator filings:

Docket Numbers: EG09-77-000.

Applicants: Black Bear Hydro Partners, LLC.

Description: Notice of Exempt Wholesale Generator Status submitted by Black Bear Hydro Partners, LLC.

Filed Date: 07/24/2009.

Accession Number: 20090724-5065.

Comment Date: 5 p.m. Eastern Time on Friday, August 14, 2009.

Docket Numbers: EG09-78-000.

Applicants: Tilton Energy LLC.

Description: Notice of Self-Certification of Exempt Wholesale Generator Status of Tilton Energy LLC.

Filed Date: 07/27/2009.

Accession Number: 20090727-5072.

Comment Date: 5 p.m. Eastern Time on Monday, August 17, 2009.

Take notice that the Commission received the following electric rate filings:

Docket Numbers: ER08-1169-003.

Applicants: Midwest Independent Transmission System Operating, Inc.

Description: Midwest ISO submits First Revised Sheet 3102 et al. to FERC Electric Tariff, Fourth Revised Volume 1.

Filed Date: 07/24/2009.

Accession Number: 20090727-0027.

Comment Date: 5 p.m. Eastern Time on Friday, August 14, 2009.

Docket Numbers: ER09-304-002; ER99-1005-011.

Applicants: KCP&L Greater Missouri Operations Company.

Description: Kansas City Power & Light Company et al. submits updated market power study in support of their respective market based rate authorizations.

Filed Date: 07/23/2009.

Accession Number: 20090727-0020.

Comment Date: 5 p.m. Eastern Time on Monday, September 21, 2009.

Docket Numbers: ER09-1178-001.

Applicants: Public Service Company of New Mexico.

Description: Public Service Company of New Mexico submits Second Revised Sheet 3 et al. to FERC Electric Tariff, 2nd Rev Vol 6.

Filed Date: 07/24/2009.

Accession Number: 20090724-0543.

Comment Date: 5 p.m. Eastern Time on Friday, August 14, 2009.

Docket Numbers: ER09-1283-002.

Applicants: The Energy Cooperative of Pennsylvania, Inc.

Description: Energy Cooperative of Pennsylvania, Inc submits second amended petition for acceptance of initial tariff, waivers and blanket authority.

Filed Date: 07/27/2009.

Accession Number: 20090727-0043.

Comment Date: 5 p.m. Eastern Time on Monday, August 17, 2009.

Docket Numbers: ER09-1294-001.

Applicants: Wisconsin Electric Power Company.

Description: Wisconsin Electric Power Company submits revisions to the Control Area Operations Coordination Agreement Wisconsin Power and Light Company, to be effective 8/10/09.

Filed Date: 07/27/2009.

Accession Number: 20090728-0175.

Comment Date: 5 p.m. Eastern Time on Monday, August 17, 2009.

Docket Numbers: ER09-1488-000.

Applicants: Black Bear Hydro Partners, LLC.

Description: Petition of Black Bear Hydro Partners, LLC for order accepting market based rate tariff for filing and granting waivers and blanket approvals and request for expedited action.

Filed Date: 07/24/2009.

Accession Number: 20090727-0017.

Comment Date: 5 p.m. Eastern Time on Friday, August 14, 2009.

Docket Numbers: ER09-1489-000.

Applicants: Southern California Edison Company.

Description: Southern California Edison Company submits letter agreement between SCE and Alta Windpower Development, LLC.

Filed Date: 07/24/2009.

Accession Number: 20090724-0086.

Comment Date: 5 p.m. Eastern Time on Friday, August 14, 2009.

Docket Numbers: ER09-1490-000.

Applicants: Tampa Electric Company.

Description: Tampa Electric Company submits its cost-based rate tariff which is designated as Tampa Electric's FERC Electric, Original Volume 7.

Filed Date: 07/24/2009.

Accession Number: 20090724-0085.

Comment Date: 5 p.m. Eastern Time on Friday, August 14, 2009.

Docket Numbers: ER09-1492-000.

Applicants: Florida Power & Light Company.

Description: Florida Power & Light Company submits Third Revised Sheet 161 et al. to FERC Electric Tariff, 2nd Rev Vol 6 to be effective 8/1/09.

Filed Date: 07/24/2009.

Accession Number: 20090724-0542.

Comment Date: 5 p.m. Eastern Time on Friday, August 14, 2009.

Docket Numbers: ER09-1493-000.

Applicants: Carolina Power & Light Company.

Description: Carolina Power & Light Company submits a Power Supply and Coordination Agreement with the Public Works Commission of the City of Fayetteville, North Carolina designated as Rate Schedule 184, effective 9/22/09.

Filed Date: 07/24/2009.

Accession Number: 20090727-0024.

Comment Date: 5 p.m. Eastern Time on Friday, August 14, 2009.

Docket Numbers: ER09-1494-000.

Applicants: Entergy Services, Inc.

Description: Entergy Arkansas, Inc submits an Amended Rate Schedule providing for power coordination and interchange services to the City of Osceola, Arkansas, to be effective 10/1/09.

Filed Date: 07/24/2009.

Accession Number: 20090727-0025.

Comment Date: 5 p.m. Eastern Time on Friday, August 14, 2009.

Docket Numbers: ER09-1491-000.

Applicants: Tilton Energy LLC.

Description: Tilton Energy, LLC submits application for market based rate authorization under section 205 of the Federal Power Act and request for waivers and blanket approvals.

Filed Date: 07/27/2009.

Accession Number: 20090728-0070.

Comment Date: 5 p.m. Eastern Time on Monday, August 17, 2009.

Docket Numbers: ER09-1495-000.

Applicants: Midwest Independent Transmission System Operator, Inc.

Description: Midwest Independent Transmission System Operator, Inc submits executed Transmission Interconnection Agreement among ITC Midwest LLC, Northern States Power Company and Midwest ISO.

Filed Date: 07/27/2009.

Accession Number: 20090727-0037.

Comment Date: 5 p.m. Eastern Time on Monday, August 17, 2009.

Docket Numbers: ER09-1497-000.

Applicants: Lehman Brothers Commodity Services Inc.

Description: Lehman Brothers Commodity Services Inc submits notice of cancellation of First Revised FERC Electric Tariff No 1.

Filed Date: 07/27/2009.

Accession Number: 20090727-0042.

Comment Date: 5 p.m. Eastern Time on Monday, August 17, 2009.

Docket Numbers: ER09-1499-000.

Applicants: Consolidated Edison Company of New York, Inc.

Description: Consolidated Edison Company of New York, Inc submits Service Agreement for Wholesale Distribution Service to be appended to Con Edison's Open Access Transmission Tariff, FERC Electric Tariff, First Revised Volume No 1.

Filed Date: 07/27/2009.

Accession Number: 20090727-0044.

Comment Date: 5 p.m. Eastern Time on Monday, August 17, 2009.

Docket Numbers: ER09-1500-000.

Applicants: MH Partners LP.

Description: MH Partners, LP submits First Revised Sheet 1 to Rate Schedule FERC No 1, Original Volume 1.

Filed Date: 07/27/2009.

Accession Number: 20090728-0180.

Comment Date: 5:00 pm Eastern Time on Monday, August 17, 2009.

Docket Numbers: ER09-1501-000.

Applicants: Southern California Edison Company.

Description: Southern California Edison Company submits First Revised Sheet 17 et al. to FERC Electric Tariff, First Revised Volume 5, Service Agreement 192, to be effective 9/26/09.

Filed Date: 07/27/2009.

Accession Number: 20090728-0179.

Comment Date: 5 p.m. Eastern Time on Monday, August 17, 2009.

Docket Numbers: ER09-1502-000.

Applicants: Southern Company Services, Inc.

Description: Alabama Power Company et al. submits Revisions No 2 to Agreement for Network Integration Transmission Service between Southern Companies and Georgia Transmission Corp etc.

Filed Date: 07/27/2009.

Accession Number: 20090728-0178.

Comment Date: 5 p.m. Eastern Time on Monday, August 17, 2009.

Docket Numbers: ER09-1503-000.

Applicants: Niagara Mohawk Power Corporation.

Description: Niagara Mohawk Power Corp submits for acceptance two 1972 letters with Power Authority of the State of New York documenting agreement etc.

Filed Date: 07/27/2009.

Accession Number: 20090728-0181.

Comment Date: 5 p.m. Eastern Time on Monday, August 17, 2009.

Docket Numbers: ER09-1504-000.

Applicants: Southwest Power Pool, Inc.

Description: Southwest Power Pool, Inc submits an executed service agreement for Point-to-Point Transmission Service with KCP&L Greater Missouri Operations Company, to be effective 9/25/09.

Filed Date: 07/27/2009.

Accession Number: 20090728-0166.

Comment Date: 5 p.m. Eastern Time on Monday, August 17, 2009.

Docket Numbers: ER09-1506-000.

Applicants: Southwest Power Pool, Inc.

Description: Southwest Power Pool, Inc submits Fourth Revised Service Agreement 607 et al. to FERC Electric Tariff, Fifth Revised Volume 1, to be effective 9/26/09.

Filed Date: 07/28/2009.

Accession Number: 20090728-0182.

Comment Date: 5 p.m. Eastern Time on Tuesday, August 18, 2009.

Take notice that the Commission received the following electric securities filings:

Docket Numbers: ES09-40-000.

Applicants: Upper Peninsula Power Company.

Description: Upper Peninsula Power Company's application for renewed authorization to issue long term debt.

Filed Date: 07/24/2009.

Accession Number: 20090727-0023.

Comment Date: 5 p.m. Eastern Time on Friday, August 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-18543 Filed 8-3-09; 8:45 am]

BILLING CODE 6717-01-P